DEPARTMENT OF HEALTH AND HUMAN SERVICES

Centers for Medicare & Medicaid Services

Privacy Act of 1974; CMS Computer Match No. 2013-06; HHS Computer Match No. 1308

AGENCY: Centers for Medicare & Medicaid Services (CMS), Department of Health and Human Services (HHS).

ACTION: Notice of Computer Matching Program (CMP).

SUMMARY: In accordance with the requirements of the Privacy Act of 1974, as amended, this notice announces the establishment of a CMP that CMS plans to conduct with the Veterans Health Administration (VHA), an Administration of the Department of Veterans Affairs (VA).

DATES: Effective Dates: Comments are invited on all portions of this notice. Public comments are due 30 days after publication. The matching program will become effective no sooner than 40 days after the report of the matching program is sent to the Office of Management and Budget (OMB) and Congress, or 30 days after publication in the Federal Register, whichever is later.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Aaron Wesolowski, Director, Verifications Policy & Operations Branch, Division of Eligibility and Enrollment Policy and Operations, Center for Consumer Information and Insurance Oversight, CMS, 7501 Wisconsin Avenue, Bethesda, MD 20814, Office Phone: (301) 492-4416, Facsimile: (443) 380-5531, EMail: Aaron.Wesolowski@cms.hhs.gov.

SUPPLEMENTARY INFORMATION: The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Dated: August 9, 2013.
Michelle Snyder,
Chief Operating Officer, Centers for Medicare & Medicaid Services.

CMS Computer Match No. 2013-06

HHS Computer Match No. 1308

NAME:

“Computer Matching Agreement between the Department of Health and Human Services, Centers for Medicare & Medicaid Services, and the Department of Veterans Affairs, Veterans Health Administration, for the Determination of Eligibility for the Advance Premium Tax Credit and Cost Sharing Reductions under the Affordable Care Act”

SECURITY CLASSIFICATION:

Unclassified

PARTICIPATING AGENCIES:

Department of Health and Human Services (HHS), Centers for Medicare & Medicaid Services (CMS), and Department of Veterans Affairs (VA), Veterans Health Administration (VHA).

AUTHORITY FOR CONDUCTING MATCHING PROGRAM:

Sections 1411 and 1413 of the Patient Protection and Affordable Care Act of 2010 (Pub. L. 111-148), as amended by the Health Care and Education Reconciliation Act of 2010 (Pub. L. 111-152) (collectively, the ACA) require the Secretary of HHS to establish a program for applying for and determining eligibility for advance payments of the premium tax credit and cost sharing reductions and authorize use of secure, electronic interfaces and an on-line system for the verification of eligibility.

PURPOSE(S) OF THE MATCHING PROGRAM:

The purpose of the Computer Matching Agreement is to establish the terms, conditions, safeguards, and procedures under which VHA will provide records, information, or data to CMS for making eligibility determinations for advance payments of the premium tax credit (APTC) and cost sharing reductions (CSR). The data will be used by CMS in its capacity as a Federally-facilitated Exchange, and by State-based Exchanges that will receive the results of verifications using VHA data obtained through the CMS Data Services Hub.

Data will be matched for the purpose of assisting CMS or a State-based Exchange to determine eligibility for the following benefits: (1) APTC under 26 U.S.C. § 36B and (2) CSR under Section 1402 of the ACA. Specifically, CMS will use VHA data to verify an Applicant or Enrollee's eligibility for VHA health care programs that constitute minimum essential coverage as defined in section 5000A(f) of the Internal Revenue Code of 1986, 26 U.S.C. § 5000A, as amended by § 1501 of the ACA.

DESCRIPTION OF RECORDS TO BE USED IN THE MATCHING PROGRAM:

The matching program will be conducted with data maintained by CMS in the Health Insurance Exchanges (HIX) Program, CMS System No. 09-70-0560, as amended. The system is described in System of Records Notices (SORNs) published at 78 Federal Register (Fed. Reg.) 8538 (Feb. 6, 2013) and 78 Fed. Reg. 32256 (May 29, 2013).

The matching program will also be conducted with data maintained in two VHA systems of records. The VHA systems are described in the following SORNs:

• 147VA16 Enrollment and Eligibility Records (VA) published at 74 Fed. Reg. 44901 (August 31, 2009);

• 54VA16 Health Administration Center Civilian Health Medical Record—VA (CHAMPVA), and Spina Bifida Healthcare Program published at 74 Fed. Reg. 34398 (July 15, 2009).

INCLUSIVE DATES OF THE MATCH:

The CMP will become effective no sooner than 40 days after the report of the matching program is sent to OMB and Congress, or 30 days after publication in the Federal Register, whichever is later. The matching program will continue for 18 months from the effective date and may be extended for an additional 12 months thereafter, if certain conditions are met.

[FR Doc. 2013-19719 Filed 8-13-13; 8:45 am]

BILLING CODE 4120-03-P